Title 3—

The President

Proclamation 9294 of June 12, 2015

Flag Day and National Flag Week, 2015

By the President of the United States of America

A Proclamation

For more than 200 years, the American flag has been a proud symbol of the people of our Nation and the values for which we stand. In hues of red, white, and blue, it reflects centuries of struggle and sacrifice—a constant reminder of our journey from 13 colonies to a Nation united in freedom and liberty, and of the patriots and pioneers who fought for these ideals at home and abroad. On Flag Day and during National Flag Week, we pay tribute to this banner of hope and opportunity, and we celebrate the story of progress it represents.

With broad stripes and bright stars, our flag has connected Americans across our country, around the globe, and throughout the chapters of our history. In a new world, it stood as a beacon of promise and possibility; in the dawn's early light, it offered a glimmer of hope as the fate of our young Nation was decided; and after a civil war that divided our Union, the Star Spangled Banner once again united our people. As courageous women and men marched and protested to broaden our democracy's reach and secure their civil rights, they carried the American flag, understanding the enormous potential it embodied—even as the Nation it represented denied them their fundamental rights. Today, it is because of an unbroken chain of heroes, who have served in our Armed Forces and worn the flag they defend, that Old Glory still waves over the land of the free and the home of the brave.

From storefronts and homes, atop monuments, and over the institutions that sustain our Nation at home and abroad, the American flag stands watch as we strive to perfect our Union. As we place our hand over our heart or as we salute this symbol of the country we love, let us pause to reflect on the legacy of our Nation and embrace the common threads that bind us together as Americans.

To commemorate the adoption of our flag, the Congress, by joint resolution approved August 3, 1949, as amended (63 Stat. 492), designated June 14 of each year as “Flag Day” and requested that the President issue an annual proclamation calling for its observance and for the display of the flag of the United States on all Federal Government buildings. The Congress also requested, by joint resolution approved June 9, 1966, as amended (80 Stat. 194), that the President annually issue a proclamation designating the week in which June 14 occurs as “National Flag Week” and call upon citizens of the United States to display the flag during that week.

NOW, THEREFORE, I, BARACK OBAMA, President of the United States of America, do hereby proclaim June 14, 2015, as Flag Day and the week beginning June 14, 2015, as National Flag Week. I direct the appropriate officials to display the flag on all Federal Government buildings during that week, and I urge all Americans to observe Flag Day and National Flag Week by displaying the flag. I also call upon the people of the United States to observe with pride and all due ceremony those days from Flag Day through Independence Day, also set aside by the Congress (89 Stat. 211), as a time to honor America, to celebrate our heritage in public gatherings and activities, and to publicly recite the Pledge of Allegiance to the Flag of the United States of America.

IN WITNESS WHEREOF, I have hereunto set my hand this twelfth day of June, in the year of our Lord two thousand fifteen, and of the Independence of the United States of America the two hundred and thirty-ninth.

[FR Doc. 2015-15110

Filed 6-16-15; 11:15 am]

Billing code 3295-F5